DEPARTMENT OF ENERGY

Proposed Agency Information Collection

AGENCY: U.S. Department of Energy.

ACTION: Notice and request for comments.

SUMMARY: The Department of Energy (DOE) invites public comment on a proposed collection of information that DOE is developing for submission to the Office of Management and Budget (OMB) pursuant to the Paperwork Reduction Act of 1995. This proposed information collection is in support of a new voluntary partnership program being developed by the Department aimed at making the nation's energy system more resilient to extreme weather and climate change. Comments are invited on: (a) whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before January 30, 2015. If you anticipate difficulty in submitting comments within that period, contact the person listed in ADDRESSES as soon as possible.

ADDRESSES: Written comments may be sent to Dr. Craig Zamuda, U.S. Department of Energy, EPSA-20, and 1000 Independence Avenue SW., Washington, DC 20585 or by fax 202 586-5345 or by email at craig.zamuda@hq.doe.gov

FOR FURTHER INFORMATION CONTACT: Requests for additional information or copies of the information collection instrument and instructions should be directed to Dr. Craig Zamuda, U.S. Department of Energy, EPSA-20, and 1000 Independence Avenue SW., Washington, DC 20585 or by email at craig.zamuda@hq.doe.gov

SUPPLEMENTARY INFORMATION: This information collection request contains: (1) OMB No. New; (2) Information Collection Request Title: Partnership for Energy Sector Climate Resilience; (3) Type of Request: New; (4) Purpose: To enhance the resilience of the nation's power sector to extreme weather and climate change, the Department of Energy is moving forward to establish a new voluntary partnership program with power sector companies. On an annual basis, companies that join the Partnership for Energy Sector Climate Resilience are asked to provide a high-level summary report on climate resilience activities pursued, milestones accomplished, and progress in enhanced energy infrastructure climate resilience. The information covered by this request will help to inform the Department about progress being made to enhance resilience. This information will also assist the Department in identifying best practices and areas where barriers to further progress exist. The information provided will enable the Department to better direct resources to those aspects of resilience planning most critical to the needs of the power sector; (5) Annual Estimated Number of Respondents; 25 (6) Annual Estimated Number of Total Responses: 50; (7) Annual Estimated Number of Burden Hours: 212 hours; (8) Annual Estimated Reporting and Recordkeeping Cost Burden: $8,959.

Statutory Authority: The Energy Independence and Security Act of 2007; Executive Order 13514—Federal Leadership in Environmental, Energy, and Economic Performance; Executive Order 13653—Preparing the United States for the Impacts of Climate Change; and the President's Climate Action Plan.

Issued in Washington, DC on November 24, 2014.
Judith M. Greenwald,
Deputy Director, Office of Climate, Environment and Efficiency, Office of Energy Policy and Systems Analysis, U.S. Department of Energy.

[FR Doc. 2014-28209 Filed 11-28-14; 8:45 am]

BILLING CODE 6450-01-P